DEPARTMENT OF JUSTICE

Notice of Lodging of Consent Decree Pursuant to the Comprehensive Environmental Response, Compensation, and Liability Act of 1980, as Amended

Notice is hereby given that, on March 27, 2003, the United States lodged with the Untied States District Court for the District of Rhode Island a proposed Consent Decree with Keyser-Roth corporation (“Kayser-Roth”) in United States v. Kayser-Roth Corp., Civil Action No. 98-160ML (D.R.I.). In the action, which was filed in March, 1998, the United States brought a claim against Kayser-Roth, pursuant to section 107(a) of the Comprehensive Environmental Response, Compensation, and Liability Act (“CERCLA”), 42 U.S.C. 9607(a), seeking to recover past unreimbursed costs and prejudgment interest incurred with respect to the Stamina Mills, Inc. Su0erfund Site located in North Smithfield, Rhode Island (the “Site”).

Pursuant to the terms of the proposed Consent Decree, Kayser-Roth has agreed to pay the United States, within 30 days of entry of the Decree, an amount equal to the sum of (a) $7,169,432, plus interest accruing from September 30, 2002 and (b) $45,211, plus interest accruing from October 17, 2002. The United States has agreed to provide Kayser-Roth with a covenant not to sue, pursuant to section 107(a) of CERCLA, 42 U.S.C. 9607(a), for Past Response Costs, which are defined as all costs that the Environmental Protection Agency paid at or in connection with the site through May 31, 2002 or that the Department of Justice, on behalf of the environmental Protection Agency, paid at or in connection with the Site through May 31, 2002, plus accrued interest on such costs. The United States has also agreed to extend the covenant to Collins & Aikman Products Co., Inc., which has provided an indemnity to Kayser-Roth in connection with the Site.

Comments should be addressed to the Assistant Attorney General, Environment and Natural Resources Division, PO Box 7611, U.S. Department of Justice, Washington, DC 20044-7611, and should refer to United States v. Kayser-Roth Corp., Civil Action No. 98-160Ml (D.R.I.), DOJ No. 90-11-2-356B. A copy of the comments should also be sent to Donald G. Frankel, Trial Attorney, Environmental Enforcement Section, Environment and Natural Resources Division, U.S. Department of Justice, One Gateway Center, Suite 616, Newton, Massachusetts 02458.

The proposed Consent Decree may be examined at EPA Region 1, One Congress Street, Suite 1100, Boston, MA 02114-2023 (contact Lloyd Selbst at 617-918-1739), and at the Office of the United States Attorney for the District of Rhode Island, 50 Kennedy Plaza, 8th Floor, Providence, Rhode Island 02903 (contact Lisa Dinerman at 410-528-5477). During the public comment period, the Consent Decree may also be examined on the following Department of Justice Web Site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@ussdoj.gov), fax no. (202) 514-0097, phone confirmation number (202) 514-1547, referencing United States v. Kayser-Roth Corp., Civil Action No. 98-160ML (D.R.I.), DOJ No. 90-11-2-356B. In requesting a copy, please enclose a check in the amount of $6.25 (25 cents per page reproduction cost) payable to the U.S. Treasury.

Ronald G. Gluck,
Assistant Chief, Environmental Enforcement Section, Environment and Natural Resources Division.

[FR Doc. 03-9402 Filed 4-16-03; 8:45 am]

BILLING CODE 4410-15-M